DEPARTMENT OF HEALTH AND HUMAN SERVICES

National Institutes of Health

National Center for Research Resources; Amended Notice of Meeting

Notice is hereby given of a change in the meeting of the National Center for Research Resources Special Emphasis Panel, June 21, 2006, 2 p.m. to June 21, 2006, 4 p.m., National Institutes of Health, One Democracy Plaza, 6701 Democracy Boulevard, Conference Room 1087, Bethesda, MD 20892 which was published in the Federal Register on May 31, 2006, 71 FR 30943.

The date of the meeting has been changed to July 18, 2006. The time and location remains the same. The meeting is closed to the public.

Dated: June 28, 2006.
Anna Snouffer,
Acting Director, Office of Federal Advisory Committee Policy.

[FR Doc. 06-5995 Filed 7-5-06; 8:45 am]

BILLING CODE 4140-01-M